DEPARTMENT OF TRANSPORTATION

Surface Transportation Board

[Docket No. FD 35954]

Camp Chase Railway Company, LLC—Acquisition and Operation Exemption—Camp Chase Railroad Company

Camp Chase Railway Company, LLC (CCRY),¹ a noncarrier, has filed a verified notice of exemption under 49 CFR 1150.31 to acquire from Camp Chase Railroad Company (CCRA), and to operate, approximately 14 miles of rail line known as the Camp Chase Industrial Track (the Line). The Line extends between milepost 141.4 in Columbus, Ohio, and milepost 155.4 in Lilly Chapel, Ohio.²

¹ CCRY is a new subsidiary of Indiana Boxcar Corporation.

² CCRA, previously known as Camp Chase Industrial Railroad Corporation, acquired the Line from Consolidated Rail Corporation in 1994. See Camp Chase Indus. R.R. Corp.—Acquisition and Operation Exemption—Line of Consol. Rail Corp., FD 32581 (ICC served Oct. 21, 1994).

This transaction is related to a concurrently filed verified notice of exemption in Indiana Boxcar Corporation—Continuance in Control Exemption—Camp Chase Railway Company, LLC, FD 35955, wherein Indiana Boxcar Corporation seeks Board approval to continue in control of CCRY, upon CCRY's becoming a Class III rail carrier.

The transaction may not be consummated until September 27, 2015 (30 days after the notice of exemption was filed).

CCRY certifies that its projected annual revenues as a result of this transaction will not result in its becoming a Class II or Class I rail carrier and will not exceed $5 million.

CCRY states that the transaction does not involve any provision or agreement that limits future interchange with a third-party connecting carrier.

If the verified notice contains false or misleading information, the exemption is void ab initio. Petitions to revoke the exemption under 49 U.S.C. 10502(d) may be filed at any time. The filing of a petition to revoke will not automatically stay the effectiveness of the exemption. Petitions to stay must be filed no later than September 18, 2015 (at least seven days before the exemption becomes effective).

An original and 10 copies of all pleadings, referring to Docket No. FD 35954, must be filed with the Surface Transportation Board, 395 E Street SW., Washington, DC 20423-0001. In addition, a copy of each pleading must be served on John D. Heffner, Strasburger & Price, LLP, 1025 Connecticut Ave. NW., Suite 717, Washington, DC 20036.

Board decisions and notices are available on our Web site at “WWW.STB.DOT.GOV.”

Decided: September 4, 2015.
By the Board, Rachel D. Campbell, Director, Office of Proceedings.
Tia Delano,
Clearance Clerk.

[FR Doc. 2015-22905 Filed 9-10-15; 8:45 am]

BILLING CODE 4915-01-P